DEPARTMENT OF ENERGY

[Docket No. EERE-2010-BT-CRT-0006]

Agency Information Collection: Energy Conservation Program for Consumer Products: Survey of Field Energy Consumption of Residential Refrigerators, Refrigerator-Freezers, and Freezers

AGENCY: U.S. Department of Energy.

ACTION: Notice and request for comments.

SUMMARY: The Department of Energy (DOE) invites public comment on a proposed collection of information that DOE is developing for submission to the Office of Management and Budget (OMB) pursuant to the Paperwork Reduction Act of 1995. Comments are invited on: (a) Whether the proposed collection of information is necessary for the proper performance of the functions of the agency, including whether the information shall have practical utility; (b) the accuracy of the agency's estimate of the burden of the proposed collection of information, including the validity of the methodology and assumptions used; (c) ways to enhance the quality, utility, and clarity of the information to be collected; and (d) ways to minimize the burden of the collection of information on respondents, including through the use of automated collection techniques or other forms of information technology.

DATES: Comments regarding this proposed information collection must be received on or before June 15, 2010.

ADDRESSES: Comments must identify the information collection for residential refrigerators or refrigerator-freezers and provide the docket number EERE-2010-BT-CRT-0006. Comments may be submitted to DOE using any of the following methods:

• Mr. Lucas Adin, U.S. Department of Energy, Building Technologies Program, Mailstop EE-2J, 1000 Independence Ave., SW., Washington, DC 20585-0121 (submit one signed copy) or by fax at (202) 586-4617 or by e-mail at lucas.adin@ee.doe.gov.

• E-mail: appliance.information@ee.doe.gov. Include the docket number in the subject line of the message.

• Hand Delivery/Courier: Ms. Brenda Edwards, U.S. Department of Energy, Building Technologies Program, 950 L'Enfant Plaza, SW., Suite 600, Washington, DC 20024-2123. Telephone: (202) 586-2945. Please submit one signed original paper copy.

• Federal eRulemaking Portal: http://www.regulations.gov. Follow the instructions for submitting comments.

FOR FURTHER INFORMATION CONTACT: Requests for additional information or copies of the information collection instrument and instructions should be directed to Ms. Brenda Edwards and Mr. Lucas Adin at the address listed above in ADDRESSES.

SUPPLEMENTARY INFORMATION: This information collection request contains: (1) OMB No. New; (2) Information Collection Request Title: Field Metering of Electrical Appliances; (3) Type of Request: New; (4) Purpose: Metered field data from electrical appliances is necessary to support characterization of energy consumption for current and future DOE energy conservation standard rulemakings. The use of tested energy consumption data is not sufficient due to the potentially wide range of conditions found in households and businesses using these appliances, referred to here as “the field”, that are not encountered under test conditions. Moreover, field metering will allow DOE to determine energy consumption of appliances that have not yet been regulated. Prior field energy consumption survey data do exist, but are difficult to obtain, do not necessarily share a consistent methodology or sample target, or are generally not representative of the entire U.S.; (5) Annual Estimated Number of Respondents: 1,000,000; (6) Annual Estimated Number of Total Responses: 10,000; (7) Annual Estimated Number of Burden Hours: 10,000; (8) Annual Estimated Reporting and Recordkeeping Cost Burden: None.

Statutory Authority: 42 U.S.C. 6295(o)(2)(B)(i) and 42 U.S.C. 6292(b)(1)(B).

Issued in Washington, DC, on April 9, 2010.
Cathy Zoi,
Assistant Secretary, Energy Efficiency and Renewable Energy.

[FR Doc. 2010-8775 Filed 4-15-10; 8:45 am]

BILLING CODE 6450-01-P